DEPARTMENT OF EDUCATION

34 CFR Part 230

RIN 1855-AA04

Innovation for Teacher Quality

AGENCY: Office of Innovation and Improvement, Department of Education.

ACTION: Final regulations.

SUMMARY: The Secretary issues regulations prescribing criteria to be used in selecting eligible members of the Armed Forces to participate in the Troops-to-Teachers program and receive financial assistance. These regulations implement section 2303(c) of the Elementary and Secondary Education Act of 1965, as amended (Act). The regulations also define the terms “high-need local educational agency” (high-need LEA) and “public charter school” in which a participant must agree to be employed under section 2304(a)(1)(B) of the Act. In addition, the regulations define the term “children from families with income below the poverty line” which is used in the definition of high-need LEA.

DATES: These regulations are effective September 15, 2005.

FOR FURTHER INFORMATION CONTACT: Thelma Leenhouts, U.S. Department of Education, 400 Maryland Avenue, SW., room 4W302, FOB6, Washington, DC 20202-6140. Telephone: (202) 260-0223 or via Internet: thelma.leenhouts@ed.gov.

If you use a telecommunications device for the deaf (TDD), you may call the Federal Relay Service (FRS) at 1-800-877-8339.

Individuals with disabilities may obtain this document in an alternative format (e.g., Braille, large print, audiotape, or computer diskette) on request to the contact person listed FOR FURTHER INFORMATION CONTACT.

SUPPLEMENTARY INFORMATION: These regulations implement section 2303(c) of Title II, Part C, Subpart 1, Chapter A of the Act, as amended by the No Child Left Behind Act of 2001 (NCLB) (Pub. L. 107-110), enacted January 8, 2002. Subpart 1, Transitions to Teaching, of Chapter A authorizes the Troops-to-Teachers program. This program provides assistance, including stipends of up to $5,000, to eligible members of the Armed Forces so that they can obtain certification or licensing as elementary school teachers, secondary school teachers, or vocational/technical teachers and become highly qualified teachers. In addition, the program helps participants find employment in high-need LEAs or public charter schools.

With respect to participation agreements under section 2304(a)(1)(B) of the Act signed on or after September 15, 2005, only full-time employment in a “high-need LEA” or “public charter school” as defined in 34 CFR 230.2 will satisfy the Act's service requirement. Participation agreements signed prior to September 15, 2005 are not subject to the new definitions.

On January 14, 2005 the Secretary published a notice of proposed rulemaking (NPRM) for this program in the Federal Register (70 FR 2582). The NPRM proposed regulations implementing section 2303(c)(1) of the Act, which directs the Secretary to prescribe criteria to be used to select eligible members of the Armed Forces to participate in the program. The NPRM also proposed regulations to resolve an ambiguity in the Act regarding the definitions of a “high-need local educational agency” and “public charter school.”

Analysis of Comments and Changes

In response to the Secretary's invitation in the NPRM, approximately 100 parties submitted comments on the proposed regulations. An analysis of the comments and of the changes in the regulations since publication of the NPRM follows.

We discuss substantive issues under the sections of the regulations to which they pertain. Generally, we do not address technical and other minor changes—and suggested changes the law does not authorize the Secretary to make.

Section 230.1

Comment: One commenter stated that § 230.1, which is simply a brief general description of the Troops-to-Teachers program, does not provide an accurate context for the proposed regulations that follow it because, according to the commenter, that section inaccurately stated that bonuses may be paid to teachers agreeing to serve in “high-poverty schools” when in fact the Act specifies teachers in a “high-need school”. According to this comment, the Department's alleged failure to recognize the distinction between low income and high poverty established an inaccurate context for all of the proposed regulations that followed the brief program description.

Discussion: The legal standard for schools in which service will satisfy the service requirement for bonuses is set forth unambiguously in section 2304(d)(3) of the Act. “High-need school,” which is defined by the Act, is a distinct term unrelated to the term high-need LEA, which is not defined in the Act. In the proposed regulations, “high-poverty schools” was used as a shorthand description of one technical provision of the Act in the general description of the Troops-to-Teachers program in § 230.1. By its nature, such a brief description is not intended to substitute for the Act, address every aspect of the Act, or provide a detailed discussion of each of the Act's technical provisions. However, the Secretary has concluded that the regulation can be improved by adhering closely to the statutory language on bonuses, and the regulation has been changed accordingly.

Change: Section 230.1 has been amended to specify in the last sentence that, in lieu of a stipend, the Defense Activity for Non-Traditional Education Support (DANTES) may pay a bonus of $10,000 to a participant who agrees to teach in a high-need school.

Section 230.2

Comments: Virtually every commenter opposed the proposed definition of high-need LEA in § 230.2. Many commenters asserted that the proposed definition would seriously injure the Troops-to-Teachers program, the schools and students it serves, and service members who have sacrificed greatly to serve their country. Several commenters stated that the effect of the proposed definition would be to remove strong teacher candidates from the classrooms that need them most. Commenters presented examples of instances where they believed that the most needy schools would be disqualified under the proposal. For example, one commenter asserted that the Texas LEAs serving Fort Hood would not be high-need LEAs under the proposed definition, but have been commended for making that military installation one of the few locations where service personnel can obtain the full range of special educational services for their families.

One commenter urged the Secretary to establish the policy that three years of service as a full-time classroom teacher in any public or charter school classroom satisfies the service commitment under the Act.

Many commenters asserted that the number of eligible LEAs in their State would be severely and inappropriately restricted under the proposed definition. For example, according to one commenter, whereas 80 percent of Colorado's LEAs are currently classified as high-need LEAs, under the proposal the number would shrink to six (1.6 percent). According to another commenter, there would be a 67 percent reduction in the number of high-need LEAs in North Carolina. Numerous other commenters presented similar statistics for their States.

According to a comment filed by a representative of DANTES, which administers the program under a memorandum of agreement with the Department, on a national basis about 39 percent of LEAs would qualify under the proposed definition (compared with 70 percent under the standard DANTES currently uses).

One commenter stated that, unlike other educational career transition programs, the Troops-to-Teachers program has as its primary emphasis assistance to retiring members of the military. In addition, according to this comment, the Congress has historically recognized that this program's participants are located throughout the world in locations that do not permit them to anticipate with any certainty where they will be seeking employment as teachers at the conclusion of their military careers. The comment urges the Secretary to recognize this unique aspect of the program in defining high-need LEAs in which participants can satisfy their service obligation.

Several commenters asserted that the proposed definition conflicts with the basic purpose of the Troops-to-Teachers program, which they asserted is to facilitate the employment of former service members in LEAs that receive grants under Part A of Title I of the Act. One commenter stated that “high-need LEA” should be defined in terms of low-income students in the same manner as Part A of Title I, rather than using the criteria in the proposed definition. Numerous commenters argued that the current definition of high-need LEA, which is based on free and reduced price lunch (FRPL) eligibility, is consistent with section 2302(b)(2)(a)(i) of the Act, which states that the program is authorized to facilitate the employment of service members in LEAs or public charter schools receiving grants under part A of Title I as the result of having concentrations of children from low-income families. According to these comments, the phrase “concentrations of children from low-income families” has been operationally defined by DANTES to mean LEAs with 20 percent or more of their students eligible for a free or reduced price lunch.

Several commenters questioned the use of census poverty data for determining whether an LEA has enough children from families with incomes below the poverty line to be considered a high-need LEA, because of concerns about the reliability of those data. Another commenter suggested that FRPL data available from the Food and Nutrition Service in the U.S. Department of Agriculture (USDA) may be a more accurate measure of poverty and should be used for determining whether an LEA has enough children from low-income families to be considered a high-need school district.

Under the proposed regulation, the term “high-need local educational agency” would have meant an LEA: (1) That serves not fewer than 10,000 children from families with incomes below the poverty line; (2) for which not less than 20 percent of the children served by the agency are from families below the poverty line; or (3) for which not less than 15 nor more than 19 percent of the children served by the agency are from families below the poverty line and that assigns all teachers funded by the Troops-to-Teachers Program to high-need schools.

Several commenters suggested alternative definitions of high-need LEA. Several suggested that the definition of high-need LEA be changed to be identical to the statutory definition for high-need school in section 2304(d)(3) of the Act. Under section 2304(d) of the Act, a Troops-to-Teachers program participant must agree to teach in a high-need school in a high-need LEA in order to qualify for a bonus in lieu of a stipend. Another commenter suggested that the proposed definition be changed slightly so that the first tier of the definition applies to an LEA with 7,500 rather than 10,000 children from families with incomes below the poverty line and that the range for qualification for the third tier of LEAs be amended to between 10 and 19 percent rather than between 15 and 19 percent while retaining the proviso that all Troops-to-Teachers program participants in that tier of LEAs be assigned to high-need schools.

Finally, one commenter questioned whether the intent of the proposed definition is to reduce the cost of the program by reducing the number of participants who can gain employment in a high-need LEA.

Discussion: The suggestion that the Secretary establish the policy that service in any LEA or public charter school will meet the service obligation under the Act is contrary to the evident intent of the Act. While the Act failed to define the terms “high-need LEA” and “public charter school,” the Act does make a distinction between them and other LEAs, and this distinction must be given effect. The Act's requirement in section 2304(a)(1)(B) that participants agree to serve in those entities rather than in LEAs generally (if they are to receive financial assistance) makes it clear that not every LEA can provide employment that will satisfy the Act. Therefore, the Secretary rejects this suggestion.

As noted in the NPRM, the proposed definition was not motivated by a desire to realize cost savings for the program. To the contrary, the Administration, through its budget policy, has been very supportive of Troops-to-Teachers. The definition was intended to balance the need to provide program participants with reasonable opportunities to satisfy their teaching commitments under the program with the need to target recruitment assistance to LEAs with the greatest need for that assistance.

The Secretary acknowledges that the nature of military service introduces uncertainty for program participants, particularly for those stationed overseas upon enrollment in the program. These participants may be unable to anticipate where they ultimately will be seeking employment as teachers. The Secretary notes that the Troops-to-Teachers program has its historical antecedents under prior statutes that placed primary emphasis on the placement of retiring service members and comparatively little emphasis on ensuring that resources were targeted to high-need LEAs. Not surprisingly, these statutes did not require service in a “high-need LEA.” In contrast, the Act now requires such service, signifying that, unlike under prior law, some greater degree of targeting of resources is required. Moreover, the Act as a whole, of which the Troops-to-Teachers statute is a part, evidences Congressional intent to target resources to LEAs in need. Specifically, by more precisely directing funds, under programs like Title I grants to LEAs, Teacher Quality State grants, and Educational Technology State grants to LEAs with high concentrations of child poverty, Congress not only made NCLB a vehicle for holding LEAs accountable for teaching all children to high standards, but also targeted funding through the Act to those LEAs with the greater need for assistance in achieving that objective. The amendments made to the Troops-to-Teachers program by NCLB were consistent with that more general thrust of the Act.

While the Secretary is not free to ignore the imperative that resources be targeted, with the benefit of the public comments in response to the NPRM, the Secretary has concluded that some adjustment of the definition of “high-need LEA” is necessary to balance the objectives of placing retiring service members in the teaching profession and serving needy LEAs. In this final regulation, the Secretary amends the third tier of the definition of “high-need LEA,” as suggested by a commenter, so that that it applies to LEAs with 10 percent or more but less than 20 percent of their children from families below the poverty line. The provision that all Troops-to-Teachers program participants in the third tier must be assigned to high-need schools is unchanged.

The same commenter's other suggestion, that the threshold for the first tier of the definition, LEAs serving 10,000 or more students from families below the poverty line, be expanded to apply to LEAs with 7,500 or more such students has not been adopted. In considering this second suggestion, the Secretary found that once the change in percentage in the third tier is made, this additional change in the first tier would not significantly increase the number of LEAs that would be considered high-need.

The Secretary rejects the suggestion by several commenters that “high-need LEA” be defined identically to the statutory definition for “high-need school” in section 2304(d)(3) of the Act because that suggestion is not consistent with the Act. The Act makes a distinction between high-need LEAs and high-need schools that the suggestion would negate. Any participant who receives any financial support, whether stipend or bonus, must agree to teach in a high-need LEA or public charter school. There is yet a further threshold for those who wish to receive a bonus in lieu of a stipend. Those participants must also agree to teach in a high-need school within a high-need LEA or in a public charter school. Eliminating the distinction between a high-need LEA and a high-need school would eliminate currently eligible LEAs from the program since not all of those LEAs have high-need schools. Moreover, if all participants were assigned to high-need schools, they would all be eligible for bonuses; the statutory provisions for stipend would become superfluous.

As revised, the definition of high-need LEA has been expanded and should provide an adequate universe of LEAs in which participants can satisfy their teaching obligations. Approximately 22 percent of the LEAs in the country serve communities in which 20 percent or more of school-aged children are from families with incomes below the poverty line. An additional approximately 36 percent of LEAs in the country serve communities in which 10 percent or more but less than 20 percent of school-aged children are from families with incomes below the poverty line. Participants who teach in this class of LEAs can satisfy their obligations if they teach in high-need schools.

With potentially 58 percent of the LEAs in the country eligible as high-need LEAs, the Secretary rejects the contentions that the effect of the definition is to remove strong teacher candidates from the classrooms that need them most or that the most needy schools will be disqualified under the final regulation. If anything, the definition errs on the side of being over-inclusive rather than under-inclusive. Potentially, most of the LEAs in the country, serving approximately 65 percent of the Nation's K-12 population, are eligible under the revised definition.

As noted previously, with regard to the contention that the more narrow proposed definition excluded the most needy LEAs, one commenter alleged that the schools surrounding Fort Hood would be eliminated from eligibility under the proposed rule. However, according to data obtained from DANTES, even under the more narrow proposed definition, a number of LEAs within a 25-mile radius of Fort Hood would be considered high-need LEAs. Under the more expansive revised definition, most of those LEAs could potentially be high-need LEAs.

Similarly, the comments—that the proposed definition would have drastically reduced the number of eligible LEAs in particular States—have been largely addressed by the expansion of the definition of high-need LEA. As a result, the Secretary believes that in each State there should be a sufficient number of high-need LEAs with a geographical distribution adequate to provide an appropriate range of options to program participants while remaining faithful to the intent of the Act to target resources. For example, Colorado and North Carolina were two of the States in which commenters asserted that there would be a drastic reduction in eligible LEAs under the more narrow proposed rule; there will potentially be 121 of 180 Colorado LEAs eligible and 110 of 120 North Carolina LEAs eligible under the final regulation.

The Secretary disagrees with the commenters who opposed the use of Census Bureau data in the application of the definition of “high-need LEA.” U.S Census Bureau's development of model-based census estimates for LEA poverty rates grew out of the 1994 reauthorization of the Act. In the 1994 amendments to the Act, Congress mandated that the Department use census data that are updated every two years to calculate Title I LEA allocations. The NCLB amendments to Act in 2002 reaffirmed the policy to use updated census data developed through the Census Bureau's model to determine Title I allocations and further required that LEA poverty estimates be updated every year rather than every two years. The decision made by Congress to continue using updated LEA census estimates was based on an evaluation by the National Academy of Sciences (NAS) of the methodology used by the Census Bureau in developing these model-based estimates. In its 1999 “Interim Report 3: Evaluation of 1995 County and School District Estimates for Title I allocations,” NAS concluded “ * * * that the Census Bureau's * * * [updated] estimates are generally as good as—and, in some instances, better than—estimates that are currently being used.” Thus, NAS “recommends to the Secretaries of Education and Commerce that the Census Bureau's * * * school district estimates of poor school-age children be used to make direct Title I allocations to school districts for the 1999-2000 school year.” After consulting with NAS and the Census Bureau, the Department of Education and the Department of Commerce jointly decided to follow NAS’ recommendation and allocate fiscal year 1999 Title I funds to LEAs using updated Census Bureau school district estimates. The Department has continued to rely on updated LEA Census model-based estimates because it strongly believes that these estimates, while not perfect, represent the best data available on the number and location of children from low-income families in LEAs across the country. The Department is currently using 2002 Census estimates to allocate more than $12.7 billion in fiscal year (FY) 2005 Title I, Part A funds to LEAs and will use updated 2003 Census estimates to allocate funds made available in the FY 2006 appropriation.

While there are other LEA-level data, such as FRPL, that measure poverty, the Secretary believes that the Census estimates provide a better measure of the extent of poverty nationally for several reasons. First, the family income threshold needed to qualify for the FRPL program is 185 percent of the poverty level used by the Census Bureau. Hence, many more children qualify for the FRPL program than are considered poor under the census definition, which makes FRPL eligibility too expansive a measure of poverty.

Second, FRPL data tend to under-count children in middle and high schools, because children in the upper grades tend to participate in the school lunch program in significantly lower numbers. Therefore, the number of poor children in high school districts are typically not accurately represented by FRPL counts.

Third, FRPL data are self-reported data. The number of children included in the FRPL count depends on how many families apply for the program. The extent to which school districts and schools reach out and recruit families to apply for the program will affect the number. Because of this factor, the USDA, which administers the school meals programs, has raised concerns about the accuracy of these data. Several data sources, including the eligibility verifications performed by school districts, indicate that a significant number of ineligible children appear to have been certified for free and reduced meals and, therefore, that these data may not be an adequate measure for poverty for other program uses. USDA believes that the authority for school officials to use counts of children eligible for free and reduced-price meals in determining Title I within-district allocations may provide an incentive for those officials to inflate those counts.

Finally, because FRPL are self-reported data, the relationship between census poverty and FRPL is not consistent across geographic areas. Nationally, for example, the number of children eligible for the FRPL in school year 2000-01 among the States ranges from 1.5 to 41 times the number of children who meet the census criteria for poverty.

In conclusion, under the revised and expanded final definition, potentially 58 percent of the LEAs in the country will be considered high-need LEAs. While this percentage of LEAs is not as extensive as the percentage currently considered “high-need LEAs” (approximately 70 percent) under the FRPL standard, it is considerably more than would have qualified under the NPRM (potentially 38 percent). Consequently, the Secretary does not believe that by realigning the definition of high-need LEA with the current statute and thereby providing a reasonable range of choice under this expanded final definition, serious candidates will be dissuaded from a career change to teaching or that the Troops-to-Teachers program will be negatively affected by this final regulation.

Change: The third tier of the definition of “high-need local educational agency” has been expanded so as to apply to an LEA in which 10 percent or more but less than 20 percent of the children served by the agency are from families with incomes below the poverty line and that assigns all teachers receiving financial assistance through the Troops-to-Teachers program to high-need schools. In all other respects, the definition of “high-need LEA” is unchanged; however, a new definition of the term “children from families with incomes below the poverty line” has been added to § 230.2 as the result of interdepartmental review to clarify what data the Secretary uses in applying the “high-need” LEA definition. That new definition is based on the data used by the Department in allocating funds under Title I, Part A of the Act. Thus, the term “children from families with incomes below the poverty line” means the updated Department of Commerce data on the number of children ages 5 through 17 from families with incomes below the poverty line used to allocate funds under Title I, Part A of the Act.

Section 230.3

Comment: One commenter stated that § 230.3 should be clarified to specify that a participant can satisfy his or her three-year teaching obligation if he or she teaches in any of the priority categories specified in the regulation.

Discussion: Section 2304 of the Act specifies that service in any high-need LEA or public charter school satisfies a service member's teaching obligation regardless of the priority given to that service member in his or her selection to the program. Which priority is used to select a participant for the program is distinct from how a selected participant satisfies the teaching obligation one assumes upon selection to the program. Service members who teach for three years in a high-need LEA or public charter school (and in a high-need school in the case of bonus recipients) will satisfy their obligation regardless of what priority they were given under § 230.3 in their selection for the program.

Change: None.

Comment: One commenter questioned whether participants will be required to have four-year college degrees including teacher-training classes and questioned the absence of certification requirements in the regulations.

Discussion: Section 2303(c)(2) of the Act provides generally that program participants must have received a baccalaureate or advanced degree except in the case of vocational or technical teachers, who may qualify on the basis of one year of college and six or more years of military experience in a vocational or technical field or otherwise meet State certification or licensing requirements to be a vocational or technical teacher. Generally, teacher certification and licensing is a matter of State law. It would therefore not be appropriate to address that subject in these regulations.

Change: None.

Comment: One commenter suggested that the Secretary establish a policy providing for partial or full repayment where a participant makes a good-faith effort to satisfy his or her commitment but is unable to obtain appropriate employment.

Discussion: It is unnecessary to establish the suggested policy because the Act already contains, in section 2304(f) of the Act, provisions governing the repayment of a stipend or bonus, including partial repayment in appropriate cases, where a participant does not meet his or her obligation. Section 2304(a)(2) of the Act also authorizes the Secretary to waive the three-year service obligation and section 2304(f)(4) of the Act excuses repayment in the event of permanent total disability.

Change: None.

Executive Order 12866

We have reviewed these final regulations in accordance with Executive Order 12866. Under the terms of the order we have assessed the potential costs and benefits of this regulatory action.

The potential costs associated with the final regulations are those resulting from statutory requirements and those we have determined to be necessary for administering this program effectively and efficiently.

In assessing the potential costs and benefits—both quantitative and qualitative—of these final regulations, we have determined that the benefits of the regulations justify the costs.

We have also determined that this regulatory action does not unduly interfere with State, local, and tribal governments in the exercise of their governmental functions.

We summarized the potential costs and benefits of these final regulations in the preamble to the NPRM (70 FR 2584). We include additional discussion of potential costs and benefits in the section of this preamble titled Analysis of Comments and Changes.

Paperwork Reduction Act of 1995

These regulations do not contain any information collection requirements.

Intergovernmental Review

This program is subject to the requirements of Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for this program.

Assessment of Educational Impact

In the NPRM, we requested comments on whether the proposed regulations would require transmission of information that any other agency or authority of the United States gathers or makes available.

Based on the response to the NPRM and on our review, we have determined that these final regulations do not require transmission of information that any other agency or authority of the United States gathers or makes available.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.815)

The Secretary of Education has delegated authority to the Assistant Deputy Secretary for Innovation and Improvement to issue these amendments to 34 CFR Chapter II.

List of Subjects in 34 CFR Part 230

Armed forces, Education, Elementary and secondary education, Stipends, Teachers, Vocational education.

Dated: June 28, 2005.
Nina Shokraii Rees,
Assistant Deputy Secretary for Innovation and Improvement.

For the reasons discussed in the preamble, the Secretary amends title 34 of the Code of Federal Regulations by adding part 230 to read as follows:

PART 230—Innovation for Teacher Quality

Subpart A—Troops-to-Teachers Program

Sec.
230.1 What is the Troops-to-Teachers program?
230.2 What definitions apply to the Troops-to-Teacher program?
230.3 What criteria does the Secretary use to select eligible participants in the Troops-to-Teachers program?

Subpart B—[Reserved]

Authority: 20 U.S.C. 1221e-3, 3474, and 6671-6684, unless otherwise noted.

Subpart A—Troops-to-Teachers Program

§ 230.1 What is the Troops-to-Teacher program?

Under the Troops-to-Teachers program, the Secretary of Education transfers funds to the Department of Defense for the Defense Activity for Non-Traditional Education Support (DANTES) to provide assistance, including a stipend of up to $5,000, to an eligible member of the Armed Forces so that he or she can obtain certification or licensing as an elementary school teacher, secondary school teacher, or vocational/technical teacher and become a highly qualified teacher by demonstrating competency in each of the subjects he or she teaches. In addition, the program helps the individual find employment in a high-need local educational agency or public charter school. In lieu of a stipend, DANTES may pay a bonus of $10,000 to a participant who agrees to teach in a high-need school.

(Authority: 20 U.S.C. 1221e-3, 3474, and 6671-6677)

§ 230.2 What definitions apply to the Troops-to-Teacher program?

As used in this subpart—

Act means the Elementary and Secondary Education Act of 1965, as amended.

Children from families with incomes below the poverty line means the updated data on the number of children ages 5 through 17 from families with incomes below the poverty line provided by the Department of Commerce that the Secretary uses to allocate funds in a given year to local educational agencies under Title I, Part A of the Act.

High-Need Local Educational Agency as used in section 2304(a) of the Act means a local educational agency—

(1) That serves not fewer than 10,000 children from families with incomes below the poverty line;

(2) For which not less than 20 percent of the children served by the agency are from families with incomes below the poverty line; or

(3) For which 10 percent or more but less than 20 percent of the children served by the agency are from families with incomes below the poverty line and that assigns all teachers funded by the Troops-to-Teachers program to a high-need school as defined in section 2304(d)(3) of the Act for the duration of their service commitment under the Act.

Public Charter School means a charter school as defined in section 5210(1) of the Act.

(Authority: 20 U.S.C. 1221e-3, 3474, and 6672(c)(1))

§ 230.3 What criteria does the Secretary use to select eligible participants in the Troops-to-Teacher program?

(a) The Secretary establishes the following criteria for the selection of eligible participants in the Troops-to-Teachers program in the following order:

(1) First priority is given to eligible service members who are not employed as an elementary or secondary school teacher at the time that they enter into a participation agreement with the Secretary under section 2304(a) of the Act, which requires participants to teach in a high-need local educational agency or public charter school for at least three years, who will be selected in the following order:

(i) Those who agree to obtain certification to teach science, mathematics, or special education and who agree to teach in a “high-need school” as defined in section 2304(d)(3) of the Act.

(ii) Those who agree to obtain certification to teach another subject or subjects and who agree to teach in a “high-need school” as defined in section 2304(d)(3) of the Act.

(iii) Those who agree to obtain certification to teach science, mathematics, or special education or obtain certification to teach at the elementary school level.

(iv) All other eligible applicants.

(2) After all eligible first-priority participants are selected, second priority is given to eligible service members who are employed as an elementary or secondary school teacher at the time that they enter into a new participation agreement with the Secretary under section 2304(a) of the Act, which requires participants to teach in a high-need local educational agency or public charter school for at least three years, who will be selected in the following order:

(i) Those who agree to obtain certification to teach science, mathematics or special education rather than the subjects they currently teach and who agree to teach in a “high-need school” as defined in section 2304(d)(3) of the Act.

(ii) Those who agree to obtain certification to teach another subject or subjects and who agree to teach in a “high-need school” as defined in section 2304(d)(3) of the Act.

(iii) Those who agree to obtain certification to teach science, mathematics, or special education rather than the subjects they currently teach.

(iv) All others seeking assistance necessary to be deemed “highly qualified” by their State within the meaning of section 9101(23) of the Act.

(b) [Reserved].

(Authority: 20 U.S.C. 1221e-3, 3474, and 6672(c)(1)).

[FR Doc. 05-13077 Filed 6-30-05; 8:45 am]

BILLING CODE 4000-01-P